INTERNATIONAL TRADE COMMISSION

[USITC SE-15-025]

Sunshine Act Meeting

AGENCY HOLDING THE MEETING: United States International Trade Commission.

TIME AND DATE: August 18, 2015 at 11:00 a.m.

PLACE: Room 101, 500 E Street SW., Washington, DC 20436, Telephone: (202) 205-2000.

STATUS: Open to the public.

MATTERS TO BE CONSIDERED:

1. Agendas for future meetings: none

2. Minutes

3. Ratification List

4. Vote in Inv. No. 731-TA-1070A (Second Review) (Crepe Paper from China). The Commission is currently scheduled to complete and file its determination and views of the Commission on August 31, 2015.

5. Outstanding action jackets: none

In accordance with Commission policy, subject matter listed above, not disposed of at the scheduled meeting, may be carried over to the agenda of the following meeting.

Issued: August 11, 2015.
By order of the Commission.
William R. Bishop,
Supervisory Hearings and Information Officer.

[FR Doc. 2015-20173 Filed 8-12-15; 11:15 am]

BILLING CODE 7020-02-P